DEPARTMENT OF TRANSPORTATION

Office of the Secretary

Notice of Applications for Certificates of Public Convenience and Necessity and Foreign Air Carrier Permits Filed Under Subpart B (Formerly Subpart Q) Filed With the Department Between February 10, and February 21, 2003

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Applications filed during week ending: February 14, 2003.

Docket Number: OST-2003-14525.

Date Filed: February 14, 2003.

Due Date for Answers, Conforming Applications, or Motion to Modify Scope: March 7, 2003.

Description: Application of Reliant Airlines, Inc., pursuant to 49 U.S.C. 41102 and Subpart B, requesting the transfer of its certificate of public convenience and necessity, issued by Order 98-11-23, authorizing it to engage in interstate/foreign charter air transportation, to Kalitta Charters II, LLC.

Applications filed during week ending: February 21, 2003.

Docket Number: OST-2003-14553.

Date Filed: February 20, 2003.

Due Date for Answers, Conforming Applications, or Motion to Modify Scope: March 13, 2003.

Description: Application of Chautauqua Airlines, Inc., requesting that the Department disclaim jurisdiction over, or in the alternative approve, the transfer of the operating authority held by Chautauqua to a newly formed Indiana corporation to be named Chautauqua Airlines, Inc. (“Newco”).

Docket Number: OST-2003-14554.

Date Filed: February 20, 2003.

Due Date for Answers, Conforming Applications, or Motion to Modify Scope: March 13, 2003.

Description: Application of Shuttle America Corporation, requesting that the Department disclaim jurisdiction over, or in the alternative approve, the transfer of the operating authority held by Shuttle America to a newly formed Indiana corporation to be named Shuttle America Corporation (“Newco”).

Dorothy Y. Beard,
Chief, Docket Operations and Media Management, Federal Register Liaison.

[FR Doc. 03-4916 Filed 2-28-03; 8:45 am]

BILLING CODE 4910-62-P